ENVIRONMENTAL PROTECTION AGENCY

[EPA-HQ-OPP-2020-0060; FRL-10010-41]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1, Table 1A, Table 1B and Table 2 of Unit II, pursuant to the Federal Insecticide, Fungicide, and Rodenticide Act (FIFRA). This cancellation order follows an April 17, 2020 Federal Register Notice of Receipt of Requests from the registrants listed in Table 3 of Unit II to voluntarily cancel and amend to terminate uses of these product registrations. In the April 17, 2020 notice, EPA indicated that it would issue an order implementing the cancellations and amendments to terminate uses, unless the Agency received substantive comments within the 30-day comment period that would merit its further review of these requests, or unless the registrants withdrew their requests. The Agency received 5 public comments on the notice, but they did not merit its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective June 17, 2020.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2020-0060, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

II. What action is the Agency taking?

This notice announces the cancellations and amendments to terminate uses, as requested by registrants, of products registered under FIFRA section 3 (7 U.S.C. 136a). These registrations are listed in sequence by registration number in Tables 1, 1A, 1B and 2 of this unit.

Table 1—Product Cancellations
Registration No. | Company No. | Product name | Active ingredients
264-612 | 264 | Nortron E.C | Ethofumesate.
264-615 | 264 | Nortron G.S | Ethofumesate.
279-3564 | 279 | Tackle Herbicide | Glyphosate-isopropylammonium & Imazethapyr.
279-3570 | 279 | Tackle II Herbicide | Glyphosate-isopropylammonium & Imazethapyr.
1258-1270 | 1258 | Densil CA | Chlorothalonil & 1,3,5-Triazine-2,4-diamine, N-cyclopropyl-N'-(1,1-dimethylethyl)-6-(methylthio)-.
2693-170 | 2693 | Fiberglass Bottomkote with Biolux II—Black | 1,3,5-Triazine-2,4-diamine, N-cyclopropyl-N'-(1,1-dimethylethyl)-6-(methylthio)- & Cuprous oxide.
2693-181 | 2693 | Tri-Lux III with Bio-Lux 5490 Blue | Copper thiocyanate & 1,3,5-Triazine-2,4-diamine, N-cyclopropyl-N'-(1,1-dimethylethyl)-6-(methylthio)-.
2693-183 | 2693 | Micron CSC Plus with Biolux Shark White | Cuprous oxide & 1,3,5-Triazine-2,4-diamine, N-cyclopropyl-N'-(1,1-dimethylethyl)-6-(methylthio)-.
2693-189 | 2693 | Tri-Lux Blue | Copper thiocyanate & 1,3,5-Triazine-2,4-diamine, N-cyclopropyl-N'-(1,1-dimethylethyl)-6-(methylthio)-.
2693-199 | 2693 | Trilux with Biolux Black | Copper thiocyanate & 1,3,5-Triazine-2,4-diamine, N-cyclopropyl-N'-(1,1-dimethylethyl)-6-(methylthio)-.
2693-202 | 2693 | CSC Plus—Blue | Cuprous oxide & 1,3,5-Triazine-2,4-diamine, N-cyclopropyl-N'-(1,1-dimethylethyl)-6-(methylthio)-.
2693-204 | 2693 | CSC Plus—Blue | Cuprous oxide & 1,3,5-Triazine-2,4-diamine, N-cyclopropyl-N'-(1,1-dimethylethyl)-6-(methylthio)-.
2693-208 | 2693 | Fiberglass Bottomkote with Biolux—Blue | Cuprous oxide & 1,3,5-Triazine-2,4-diamine, N-cyclopropyl-N'-(1,1-dimethylethyl)-6-(methylthio)-.
2693-209 | 2693 | Fiberglass Bottomkote Act with Biolux—Blue | 1,3,5-Triazine-2,4-diamine, N-cyclopropyl-N'-(1,1-dimethylethyl)-6-(methylthio)- & Cuprous oxide.
2693-213 | 2693 | Super KL Plus with Irgarol—Blue | 1,3,5-Triazine-2,4-diamine, N-cyclopropyl-N'-(1,1-dimethylethyl)-6-(methylthio)- & Cuprous oxide.
2693-216 | 2693 | Prop & Drive Clear Aerosol | 1,3,5-Triazine-2,4-diamine, N-cyclopropyl-N'-(1,1-dimethylethyl)-6-(methylthio)-.
2693-218 | 2693 | Fiberglass Bottomkote Act with Biolux II—Black | 1,3,5-Triazine-2,4-diamine, N-cyclopropyl-N'-(1,1-dimethylethyl)-6-(methylthio)- & Cuprous oxide.
2693-224 | 2693 | Micron Extra Blue | 1,3,5-Triazine-2,4-diamine, N-cyclopropyl-N'-(1,1-dimethylethyl)-6-(methylthio)- & Cuprous oxide.
2693-227 | 2693 | Act—Blue | 1,3,5-Triazine-2,4-diamine, N-cyclopropyl-N'-(1,1-dimethylethyl)-6-(methylthio)- & Cuprous oxide.
4170-100 | 4170 | Oxyfect-G Peroxide Disinfectant Cleaner | Hydrogen peroxide.
4170-101 | 4170 | Oxyfect-H Peroxide Disinfectant Cleaner | Hydrogen peroxide.
4822-510 | 4822 | Vanish Drop-Ins | Trichloro-s-triazinetrione.
5185-401 | 5185 | Bioguard Back-Up Algae Inhibitor | Alkyl* dimethyl benzyl ammonium chloride *(61% C12, 23% C14, 11% C16, 2.5% C18 2.5% C10 and trace of C8) & Alkyl* dimethyl benzyl ammonium chloride *(95% C14, 3% C12, 2% C16).
6836-211 | 6836 | Bromchlor G | 2,4-Imidazolidinedione, 1-bromo-3-chloro-5,5-dimethyl- & 1,3-Dibromo-5,5-dimethylhydantoin.
8730-49 | 8730 | Hercon Insectape with Propoxur | Propoxur.
8730-77 | 8730 | Hercon Disrupt Bio-Flake VBN | Verbenone.
10324-66 | 10324 | Defend Quaternary Pine Oil | Pine oil; 1-Decanaminium, N,N-dimethyl-N-octyl-, chloride; Alkyl* dimethyl benzyl ammonium chloride *(50% C14, 40% C12, 10% C16); 1-Octanaminium, N,N-dimethyl-N-octyl-, chloride & 1-Decanaminium, N-decyl-N,N-dimethyl-, chloride.
39398-4 | 39398 | Sumithion Technical | Fenitrothion.
41750-1 | 41750 | Awlgrip Awlstar Antifouling Gold Label Bp501 Light Blue | Cuprous oxide.
41750-2 | 41750 | Awlgrip Awlstar Antifouling Gold Label BP401 Medium Green | Cuprous oxide.
60061-31 | 60061 | Pettit Marine Paint Sea Mate Antifouling Bottom Paint | Cuprous oxide.
60061-50 | 60061 | Pettit Marine Paint Anti Fouling Trinidad 75 Red 1675 | Cuprous oxide.
60061-54 | 60061 | Pettit Unepoxy Standard Antifouling Bottom Paint 1810 Black | Cuprous oxide.
60061-58 | 60061 | Pettit Unepoxy Antifouling Atlantic Formula | Cuprous oxide.
63310-8 | 63310 | Rhizopon AA Water Soluble Tablets | Indole-3-butyric acid.
71368-45 | 71368 | Blightban C9-1 | Pantoea agglomerans strain C9-1.
73771-2 | 73771 | Bloomtime Biological FD Biopesticide | Pantoea agglomerans strain E325; NRRL B-21856.
89442-38 | 89442 | Mep-6X Select | Mepiquat chloride.
91234-176 | 91234 | A275.01 | Cyazofamid.
92044-5 | 92044 | CAC Etoxazole Technical | Etoxazole.
AR-190002 | 87978 | Heligen | Polyhedral occlusion bodies of Helicoverpa zea Nucleopolyhedrovirus ABA-NPV-U.

Table 1A—Product Cancellations
Registration No. | Company No. | Product name | Active ingredients
432-893 | 432 | Ronstar 50 WSP Herbicide | Oxadiazon.

The registrant of the product listed in Table 1A, of Unit II, has requested the effective date of December 31, 2020, for the cancellation.

Table 1B—Product Cancellations
Registration No. | Company No. | Product name | Active ingredients
CA-040026 | 62719 | Lorsban* 75WG | Chlorpyrifos.
CA-080009 | 62719 | Lorsban Advanced | Chlorpyrifos.
CA-080010 | 62719 | Lorsban Advanced | Chlorpyrifos.
CA-080011 | 62719 | Lorsban Advanced | Chlorpyrifos.
CA-080012 | 62719 | Lorsban Advanced | Chlorpyrifos.

The registrant of the products listed in Table 1B, of Unit II, has requested the effective date of December 31, 2019, for the cancellations.

Table 2—Product Registration Amendments To Terminate Uses
Registration No. | Company No. | Product name | Active ingredient | Uses to be terminated
8764-1 | 8764 | Freshgard 25 | o-Phenylphenol, sodium salt | Apples, cantaloupes, carrots, cherries, cucumbers, nectarines, peaches, peppers, pineapples, plums, sweet potatoes & tomatoes.
60063-7 | 60063 | Echo 720 | Chlorothalonil | Dried peas.
84229-40 | 84229 | Amtide Tebuconazole Technical Fungicide | Tebuconazole | Wood treatment.

Table 3 of this unit includes the names and addresses of record for all the registrants of the products listed in Tables 1, 1A, 1B and 2 of this unit, in sequence by EPA company number. This number corresponds to the first part of the EPA registration numbers of the products listed in Table 1 and Table 2 of this unit.

Table 3—Registrants of Cancelled and Amended Products
EPA company No. | Company name and address
264 | Bayer CropScience, LP, 800 N. Lindbergh Blvd., St. Louis, MO 63167.
279 | FMC Corporation, 2929 Walnut Street, Philadelphia, PA 19104.
432 | Bayer Environmental Science, A Division of Bayer CropScience, LP, 5000 CentreGreen Way, Suite 400, Cary, NC 27513.
1258 | Arch Chemicals, Inc., 1200 Bluegrass Lakes Parkway, Alpharetta, GA 30004.
2693 | International Paint, LLC, 6001 Antoine Drive, Houston, TX 77091.
4170 | Betco Corp. Ltd, d/ba Betco Corporation, 400 Van Camp Road, Bowling Green, OH 43402.
4822 | S.C. Johnson & Son, Inc., 1525 Howe Street, Racine, WI 53403.
5185 | Bio-Lab, Inc., P. O. Box 300002, Lawrenceville, GA 30049-1002.
6836 | Lonza, LLC, 412 Mount Kemble Avenue, Suite 200S, Morristown, NJ 07960.
8730 | Aberdeen Road Company, D/B/A Hercon Environmental, P. O. Box 435, Emigsville, PA 17318.
8764 | John Bean Technologies Corporation, D/B/A JBT Foodtech, 1660 Iowa Ave., Suite 100, Riverside, CA 92507.
10324 | Mason Chemical Company, 9075 Centre Pointe Dr., Suite 400, West Chester, OH 45069.
39398 | Sumitomo Chemical America, Inc., Agent Name: Technology Sciences Group, Inc., 1150 18th Street NW, Suite 1000, Washington, DC 20036.
41750 | International Paint, LLC, 6001 Antoine Drive, Houston, TX 77091.
60061 | Kop-Coat, Inc., 36 Pine Street, Rockaway, NJ 07866.
60063 | Sipcam Agro USA, Inc., 2525 Meridian Pkwy., Suite 350, Durham, NC 27713.
62719 | Dow Agrosciences, LLC, 9330 Zionsville Rd., 308/2E, Indianapolis, IN 46268-1054.
63310 | Hortus USA Corp, P.O. Box 1956, Old Chelsea Station, New York, NY 10113.
71368 | NuFarm, Inc., Agent Name: NuFarm Americas, Inc., 4020 Aerial Center Pkwy., Suite 101, Morrisville, NC 27560.
73771 | Verdesian Life Sciences U.S., LLC, Division Name: D/B/A Verdesian Life Sciences, 1001 Winstead Drive, Suite 480, Cary, NC 27513.
84229 | Tide International, USA, Inc., Agent Name: Pyxis Regulatory Consulting, Inc., 4110 136th Street Ct. NW, Gig Harbor, WA 98332.
87978 | Agbitech Pty Ltd., Agent Name: Forster & Associates Consulting, LLC, P. O. Box 4097, Greenville, DE 19807.
89442 | Prime Source, LLC, Agent Name: Wagner Regulatory Associates, Inc., P. O. Box 640, 7217 Lancaster Pike, Suite A, Hockessin, DE 19707.
91234 | Atticus, LLC, Agent Name: Pyxis Regulatory Consulting, Inc., 4110 136th Street Ct. NW, Gig Harbor, WA 98332-9122.
92044 | CAC Chemical Americas, LLC, Agent Name: Pyxis Regulatory Consulting, Inc., 4110 136th St., Ct. NW, Gig Harbor, WA 98332.

III. Summary of Public Comments Received and Agency Response to Comments

During the public comment period provided, EPA received five public comments; four of them are anonymous, in response to the April 17, 2020 Federal Register notice announcing the Agency's receipt of the requests for voluntary cancellations and amendments to terminate uses of products listed in Tables 1, 1A, 1B and 2 of Unit II. The Agency does not believe that the comments submitted during the comment period merit further review or a denial of the requests for voluntary cancellation and use termination.

IV. Cancellation Order

Pursuant to FIFRA section 6(f) (7 U.S.C. 136d(f)(1)), EPA hereby approves the requested cancellations and amendments to terminate uses of the registrations identified in Tables 1, 1A, 1B, and 2 of Unit II. Accordingly, the Agency hereby orders that the product registrations identified in Tables 1, 1A, 1B, and 2 of Unit II are canceled and amended to terminate the affected uses. The effective date of the cancellations and amendments listed in Table 1 and Table 2 that are subject of this notice is June 17, 2020. The effective date of the cancellation listed in Table 1A that is subject of this notice is December 31, 2020. The effective date of the cancellations listed in Table 1B that are subject of this notice is December 31, 2019. Any distribution, sale, or use of existing stocks of the products identified in Tables 1, 1A, 1B, and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of Apr 17, 2020 (85 FR 21428) (FRL-10007-07). The comment period closed on May 18, 2020.

VI. Provisions for Disposition of Existing Stocks

Existing stocks are those stocks of registered pesticide products which are currently in the United States and which were packaged, labeled, and released for shipment prior to the effective date of the action. The existing stocks provision for the products subject to this order is as follows.

A. For Product 10324-66

For product 10324-66, listed in Table 1 of Unit II, the registrant has requested 18-months to sell existing stocks. The registrant will be permitted to sell and distribute existing stocks of the product for 18-months after the effective date of the cancellation, which will be the date of publication of the cancellation order in the Federal Register. Thereafter, the registrant will be prohibited from selling or distributing the product, except for export consistent with FIFRA section 17 (7 U.S.C. 136o) or for proper disposal.

B. For Product 432-893

For product 432-893, listed in Table 1A of Unit II, the registrant has requested the cancellation date to be December 31, 2020; therefore, the registrant will be permitted to sell and distribute existing stocks of the voluntarily canceled product for 1 year after the effective date of the cancellation, which will be until December 31, 2021. Thereafter, the registrant will be prohibited from selling or distributing the product, except for export consistent with FIFRA section 17 (7 U.S.C. 136o) or for proper disposal.

C. For Products CA-040026, CA-080009, CA-080010, CA-080011 & CA-080012

For products CA-040026, CA-080009, CA-080010, CA-080011 & CA-080012, listed in Table 1B of Unit II, the registrant has requested the cancellation date to be December 31, 2019; therefore, the registrant will be permitted to sell and distribute existing stocks of voluntarily canceled products for 1 year after the effective date of the cancellation, which will be until December 31, 2020. Thereafter, the registrant will be prohibited from selling or distributing these products, except for export consistent with FIFRA section 17 (7 U.S.C. 136o) or for proper disposal.

For all other voluntary cancellations, identified in Table 1 of Unit II, the registrants may continue to sell and distribute existing stocks of the products listed in Table 1 until June 17, 2021, which is 1 year after publication of this cancellation order in the Federal Register. Thereafter, the registrants are prohibited from selling or distributing the products listed in Table 1 of Unit II, except for export in accordance with FIFRA section 17 (7 U.S.C. 136o) or for proper disposal.

Now that EPA has approved product labels reflecting the requested amendments to terminate uses, registrants are permitted to sell or distribute products listed in Table 2 of Unit II under the previously approved labeling until December 17, 2021, a period of 18 months after publication of the cancellation order in this Federal Register, unless other restrictions have been imposed. Thereafter, registrants will be prohibited from selling or distributing the products whose labels include the terminated use identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: June 4, 2020.
Delores Barber,
Director, Information Technology and Resources Management Division, Office of Pesticide Programs.

[FR Doc. 2020-13047 Filed 6-16-20; 8:45 am]

BILLING CODE 6560-50-P